DEPARTMENT OF ENERGY

Federal Energy Regulatory Commission

Combined Notice of Filings # 1

August 3, 2009.

Take notice that the Commission received the following electric corporate filings:

Docket Numbers: EC09-100-000.

Applicants: PPL Maine, LLC, Black Bear Hydro Partners, LLC.

Description: Application for Authorization for Disposition of Jurisdictional Facilities and Request for Expedited Action of Black Bear Hydro Partners, LLC, et al.

Filed Date: 07/31/2009.

Accession Number: 20090731-5119.

Comment Date: 5 p.m. Eastern Time on Friday, August 21, 2009.

Take notice that the Commission received the following exempt wholesale generator filings:

Docket Numbers: EG09-80-000.

Applicants: Fowler Ridge II Wind Farm LLC.

Description: Notice of Self-Certification of Fowler Ridge II Wind Farm LLC as an Exempt Wholesale Generator.

Filed Date: 08/3/2009.

Accession Number: 20090803-5050.

Comment Date: 5 p.m. Eastern Time on Monday, August 24, 2009.

Take notice that the Commission received the following electric rate filings:

Docket Numbers: ER99-3502-009.

Applicants: Berkshire Power Company, LLC.

Description: EIF MBR Affiliates including Berkshire File Order No. 697-C Notification re Kleen Energy.

Filed Date: 07/31/2009.

Accession Number: 20090731-5118.

Comment Date: 5 p.m. Eastern Time on Friday, August 21, 2009.

Docket Numbers: ER02-1052-011; ER07-1000-003; ER96-1947-025.

Applicants: Las Vegas Power Company, LLC, LS Power Marketing, LLC, West Georgia Generating Company, L.L.C.

Description: Notification of Change in Status pursuant to section 35.42(d).

Filed Date: 07/30/2009.

Accession Number: 20090730-5119.

Comment Date: 5 p.m. Eastern Time on Thursday, August 20, 2009.

Docket Numbers: ER06-1271-015; ER06-456-020; ER06-880-015; ER06-954-016; ER07-424-011; EL07-54-001.

Applicants: PJM Interconnection, L.L.C.

Description: PJM Interconnection, LLC submits proposed revisions to its Open Access Transmission Tariff.

Filed Date: 07/29/2009.

Accession Number: 20090730-0193.

Comment Date: 5 p.m. Eastern Time on Tuesday, August 19, 2009.

Docket Numbers: ER06-1313-005; ER03-9-017; ER98-2157-018.

Applicants: Westar Energy, Inc., Kansas Gas and Electric Company.

Description: Westar Energy, Inc. & Kansas Gas and Electric Company submits Triennial Market Power Report et al.

Filed Date: 07/31/2009.

Accession Number: 20090803-0069.

Comment Date: 5 p.m. Eastern Time on Tuesday, September 29, 2009.

Docket Numbers: ER08-552-003.

Applicants: Niagara Mohawk Power Corporation.

Description: Refund Report of Niagara Mohawk Power Corporation d/b/a National Grid.

Filed Date: 07/31/2009.

Accession Number: 20090731-5108.

Comment Date: 5 p.m. Eastern Time on Friday, August 21, 2009.

Docket Numbers: ER08-394-023.

Applicants: Midwest Independent Transmission System Operator, Inc.

Description: Midwest Independent Transmission System Operator, Inc. submits annual recalculation of the Cost of New Entry Value for the Transmission Provider Region.

Filed Date: 07/31/2009.

Accession Number: 20090803-0079.

Comment Date: 5 p.m. Eastern Time on Friday, August 21, 2009.

Docket Numbers: ER08-830-002.

Applicants: ISO New England Inc., New England Power Pool.

Description: Report of ISO New England Inc. and New England Power Pool Regarding Treatment of Price-Responsive Demand in the New England Electricity Markets.

Filed Date: 07/31/2009.

Accession Number: 20090731-5128.

Comment Date: 5 p.m. Eastern Time on Friday, August 21, 2009.

Docket Numbers: ER08-1055-004.

Applicants: Midwest Independent Transmission System Operator, Inc.

Description: Midwest ISO submits revised tariff sheets on further compliance revising certain provisions of the Amended and Restated Midwest Contingency Reserve Sharing Group Agreement.

Filed Date: 07/30/2009.

Accession Number: 20090731-0107.

Comment Date: 5 p.m. Eastern Time on Thursday, August 20, 2009.

Docket Numbers: ER08-1169-004.

Applicants: Midwest Independent Transmission System Operator, Inc.

Description: Midwest ISO submits First Revised Sheet 3072 et al. to FERC Electric Tariff, Fourth Revised Volume 1.

Filed Date: 07/24/2009.

Accession Number: 20090727-0026.

Comment Date: 5 p.m. Eastern Time on Friday, August 14, 2009.

Docket Numbers: ER09-807-001.

Applicants: Midwest Independent Transmission System Operator, Inc.

Description: Midwest Independent Transmission System Operator, Inc. submits an amendment to its 3/6/09 proposed revisions to Schedule 16 and Schedule 17 of their Open Access Transmission Tariff, FERC Electric Tariff, Fourth Revised Vol 1.

Filed Date: 07/31/2009.

Accession Number: 20090803-0075.

Comment Date: 5 p.m. Eastern Time on Friday, August 7, 2009.

Docket Numbers: ER09-1349-001.

Applicants: WestConnect.

Description: WestConnect et al. submits supplement to 6/24/09 section 205 filing to Amend Original Filing to correct certain tariff regulation.

Filed Date: 07/30/2009.

Accession Number: 20090730-0246.

Comment Date: 5 p.m. Eastern Time on Thursday, August 20, 2009.

Docket Numbers: ER09-1364-001.

Applicants: Michigan Power Limited Partnership.

Description: Michigan Power Limited Partnership submits supplement in response to a request from Commission Staff to remove the citation to Green Power Partners I in section 5 of the Tariff & clean version of the Sub. Original Tariff Sheet 2 etc.

Filed Date: 07/30/2009.

Accession Number: 20090730-0248.

Comment Date: 5 p.m. Eastern Time on Thursday, August 20, 2009

Docket Numbers: ER09-1522-000.

Applicants: Torofino Trading LLC.

Description: Torofino Trading, LLC submits petition for acceptance of initial tariff, waivers and blanket authority of FERC Electric Tariff, Original Volume 1.

Filed Date: 07/30/2009.

Accession Number: 20090730-0144.

Comment Date: 5 p.m. Eastern Time on Thursday, August 20, 2009.

Docket Numbers: ER09-1528-000.

Applicants: New England Power Pool.

Description: New England Power Pool submits Attachment 1 et al. with regards to the NEPOOL member application and termination membership.

Filed Date: 07/31/2009.

Accession Number: 20090731-0150.

Comment Date: 5 p.m. Eastern Time on Friday, August 21, 2009.

Docket Numbers: ER09-1529-000.

Applicants: California Independent System Operator Corporation.

Description: California Independent System Operator Corp submits am amendment to its FERC Electric Tariff.

Filed Date: 07/31/2009.

Accession Number: 20090731-0149.

Comment Date: 5 p.m. Eastern Time on Friday, August 21, 2009.

Docket Numbers: ER09-1530-000.

Applicants: International Transmission Company.

Description: International Transmission Company submits materials in support of its request for authorization to use updated depreciation rates in the calculation of charges for transmission services.

Filed Date: 07/31/2009.

Accession Number: 20090731-0148.

Comment Date: 5 p.m. Eastern Time on Friday, August 21, 2009.

Docket Numbers: ER09-1531-000.

Applicants: Entergy Services, Inc.

Description: Entergy Arkansas, Inc submits Network Integration Transmission Service Agreement et al to be effective 10/0/09.

Filed Date: 07/31/2009.

Accession Number: 20090803-0076.

Comment Date: 5 p.m. Eastern Time on Friday, August 21, 2009.

Docket Numbers: ER09-1533-000.

Applicants: Florida Power & Light Company.

Description: Florida Power & Light Company submits Revised Service Agreement for Network Integration Transmission Service with Seminole Electric Coop, Inc.

Filed Date: 07/31/2009.

Accession Number: 20090803-0078.

Comment Date: 5 p.m. Eastern Time on Friday, August 21, 2009.

Docket Numbers: ER09-1538-000.

Applicants: Carolina Power & Light Company.

Description: Carolina Power & Light Company submits Rate Schedule FERC 183 to be effective 9/29/09.

Filed Date: 07/31/2009.

Accession Number: 20090803-0080.

Comment Date: 5 p.m. Eastern Time on Friday, August 21, 2009.

Docket Numbers: ER09-1539-000.

Applicants: Northern Indiana Public Service Company.

Description: Northern Indiana Public Service Company submits a Transmission Upgrade Agreement.

Filed Date: 07/31/2009.

Accession Number: 20090803-0081.

Comment Date: 5 p.m. Eastern Time on Friday, August 21, 2009.

Take notice that the Commission received the following electric securities filings:

Docket Numbers: ES09-45-000.

Applicants: Entergy Mississippi, Inc., Entergy Services, Inc., Entergy Arkansas, Inc., Entergy Louisiana, LLC, Entergy New Orleans, Inc., Entergy Gulf States Louisiana, L.L.C., System Energy Resources, Inc., Entergy Texas, Inc.

Description: Joint Application for Authorizations Under Federal Power Act 204 of Entergy Services, Inc., et al.

Filed Date: 07/31/2009.

Accession Number: 20090731-5121.

Comment Date: 5 p.m. Eastern Time on Friday, August 21, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E9-19127 Filed 8-10-09; 8:45 am]

BILLING CODE 6717-01-P